DEPARTMENT OF THE INTERIOR

Fish and Wildlife Service

Information Collection Renewal To Be Submitted to the Office of Management and Budget (OMB) for Approval Under the Paperwork Reduction Act; Monitoring Recovered Species After Delisting as Required Under Section 4(g) of the Endangered Species Act—American Peregrine Falcon; 1018-0101

AGENCY: Fish and Wildlife Service, Interior.

ACTION: Notice; request for comments.

SUMMARY: The Fish and Wildlife Service (We) plan to submit to OMB a request to renew the collection of information described below. The Endangered Species Act requires that all species that are recovered and removed from the List of Endangered and Threatened Wildlife (delisted) be monitored. We will use the information that we collect under OMB Control No. 1018-0101 to determine if the American peregrine falcon remains recovered.

DATES: You must submit comments on or before March 4, 2005.

ADDRESSES: Send your comments on the information collection requirement via mail to Hope Grey, Information Collection Clearance Officer, Fish and Wildlife Service, 4401 North Fairfax Drive, Mail Stop 222-ARLSQ, Arlington, Virginia 22203; hope_grey@fws.gov (e-mail); or (703) 358-2269 (fax).

FOR FURTHER INFORMATION CONTACT: To request a copy of the proposed information collection requirement, related forms, or explanatory material, contact Hope Grey, Information Collection Clearance Officer, at the above addresses or by telephone at (703) 358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see 5 CFR 1320.8(d)). We plan to submit a request to OMB to renew its approval of the collection of information included in the Monitoring Plan for the American Peregrine Falcon, a Species Recovered Under the Endangered Species Act (Monitoring Plan) (USFWS 2003). The Monitoring Plan is available on our Web site at http://endangered.fws.gov/recovery/peregrine/plan2003.pdf. The existing OMB approval for information collection under the Monitoring Plan expires on March 31, 2005. We are requesting a 3-year term of approval for this information collection. Federal agencies may not conduct or sponsor, and a person is not required to respond to, a collection of information unless it displays a currently valid OMB control number. The OMB control number for this collection of information is 1018-0101.

The American peregrine falcon was removed from the List of Endangered and Threatened Wildlife on August 25, 1999. Section 4(g) of the Endangered Species Act (ESA) requires that all species that are recovered and removed from the List of Endangered and Threatened Wildlife (delisted) be monitored in cooperation with the States for a period of not less than 5 years. The purpose of this requirement is to detect any failure of a recovered species to sustain itself without the protections of the ESA. We work with relevant State agencies and other species experts to develop appropriate plans and procedures for systematically monitoring recovered wildlife and plants. The information supplied on the forms will be used to review the status of the American peregrine falcon in the United States and allow us to determine if it remains recovered and, therefore, does not require the protections of the ESA. The obligation to provide the information is voluntary.

The American peregrine falcon has a large geographic distribution that includes a substantial amount of non-Federal land. Although the ESA requires that monitoring of recovered species be conducted for not less than 5 years, the life history of American peregrine falcons is such that it is appropriate to monitor this species for a longer period of time in order to meaningfully evaluate whether the recovered species continues to maintain its recovered status. We solicited public comments on the draft Monitoring Plan twice in 2001, and the final Monitoring Plan was released in 2003. Rangewide population monitoring of American peregrine falcons under the Monitoring Plan will take place every 3 years through 2015. Formal collection of monitoring data commenced in 2003. Monitoring data will be collected again in 2006, 2009, 2012, and 2015. Therefore, by 2015, the U.S. Fish and Wildlife Service will have 5 years of population monitoring data.

The information collection requirement in this submission implements the requirements of the Endangered Species Act (16 U.S.C. 1539). There are no corresponding Service regulations for the ESA's post-delisting monitoring requirement. This information collection also implements the Migratory Bird Treaty Act (16 U.S.C. 704) contained in Service regulations in Chapter I, Subchapter B of Title 50 of the Code of Federal Regulations (CFR).

Title: Monitoring Recovered Species After Delisting as Required Under Section 4(g) of the Endangered Species Act—American Peregrine Falcon.

OMB Control Number: 1018-0101.

Form Numbers: FWS Forms 3-2307, 3-2308, and 3-2309.

Frequency of Collection: Monitoring is conducted every 3 years. For eggs and feathers, 15-20 of each are collected over a period of no more than 5 years.

Description of Respondents: The forms are filled out by professional biologists employed by Federal and State agencies and other organizations, and by volunteers that have been involved in past peregrine falcon conservation efforts. The egg and feather contaminants data sheets are filled out by biologists with permits to collect eggs and feathers at nest sites, as described in the Monitoring Plan, for contaminants monitoring.

Total Annual Burden Hours: 1,530.

FWS form No. | Total annual responses | Average burden hours per respondent | Annual burden hours
3-2307 | 1,482 | 1.0 | 1,482
3-2308 | 12 | 2.0 | 24
3-2309 | 12 | 2.0 | 24
Total | 1,506 |  | 1,530

FWS Form 3-2307 (Peregrine Falcon Monitoring Form) addresses the reporting requirements to record observations on the nesting pair, and the numbers of eggs and young during each nest visit. Each nest will be visited two (or more) times. FWS Form 3-2308 (Peregrine Falcon Egg Contaminants Data Sheet) addresses the reporting requirements to record data on eggs collected opportunistically during a nest visit. FWS Form 3-2309 (Peregrine Falcon Feather Contaminants Data Sheet) addresses the reporting requirements to record data on feathers collected opportunistically during a nest visit. Once collected, the eggs and feathers will be archived in a deep freeze for analysis at a later time.

We invite comments concerning this renewal on: (1) Whether or not the collection of information is necessary for the proper performance of monitoring of recovered species as prescribed in section 4(g) of the ESA, including whether or not the information will have practical utility; (2) the accuracy of our estimate of burden, including the validity of the methodology and assumptions used; (3) ways to enhance the quality, utility, and clarity of the information for those who are to respond, including through the use of appropriate automated, electronic, mechanical, or other technological collection techniques or other forms of information technology; and (4) ways to minimize the burden of the collection of information on respondents. The information collections in this program will be part of a system of records covered by the Privacy Act (5 U.S.C. 552(a)).

Dated: December 22, 2004.
Hope Grey,
Information Collection Clearance Officer, Fish and Wildlife Service.

[FR Doc. 04-28745 Filed 12-30-04; 8:45 am]

BILLING CODE 4310-55-P